DEPARTMENT OF THE INTERIOR

Fish and Wildlife Service

Information Collection Sent to the Office of Management and Budget (OMB) for Approval; OMB Control Number 1018-0023; Migratory Bird Surveys

AGENCY: Fish and Wildlife Service, Interior.

ACTION: Notice; request for comments.

SUMMARY: We (Fish and Wildlife Service) have sent an Information Collection Request (ICR) to OMB for review and approval. The ICR, which is summarized below, describes the nature of the collection and the estimated burden and cost. We are combining three surveys in this ICR because the surveys are interrelated and/or dependent upon each other:

(1) Migratory Bird Hunter Surveys, currently approved under OMB Control No. 1018-0015, which expires February 28, 2008.

(2) Parts Collection Survey, also approved under OMB Control No. 1018-0015.

(3) Sandhill Crane Harvest Survey, currently approved under OMB Control No. 1018-0023, which expires November 30, 2007.

We may not conduct or sponsor and a person is not required to respond to a collection of information unless it displays a currently valid OMB control number. However, under OMB regulations, we may continue to conduct or sponsor this information collection while it is pending at OMB.

DATES: You must submit comments on or before December 31, 2007.

ADDRESSES: Send your comments and suggestions on this ICR to the Desk Officer for the Department of the Interior at OMB-OIRA at (202) 395-6566 (fax) or OIRA_DOCKET@OMB.eop.gov (e-mail). Please provide a copy of your comments to Hope Grey, Information Collection Clearance Officer, Fish and Wildlife Service, MS 222-ARLSQ, 4401 North Fairfax Drive, Arlington, VA 22203 (mail); (703) 358-2269 (fax); or hope_grey@fws.gov (e-mail).

FOR FURTHER INFORMATION CONTACT: To request additional information about this ICR, contact Hope Grey by mail, fax, or e-mail (see ADDRESSES) or by telephone at (703) 358-2482.

SUPPLEMENTARY INFORMATION:

OMB Control Number: 1018-0023.

Title: Migratory Bird Surveys

Service Form Number(s): 3-165, 3-165A, 3-165B, 3-165C, 3-165D, 3-165E and 3-2056J-N.

Type of Request: Revision of currently approved collections.

Affected Public: States and migratory game bird hunters.

Respondent's Obligation: Voluntary.

Frequency of Collection: On occasi

Activity | Number of annual respondents | Number of annual responses | Completion time per response | Annual burden hours
Migratory Bird Harvest Information Program | 49 | 686 | 185 hours | 126,910
Migratory Bird Hunter Survey | 85,000 | 85,000 | 4.3 minutes | 6,100
Parts Collection Survey | 13,500 | 134,600 | 4.7 minutes | 10,436
Sandhill Crane Harvest Survey | 7,500 | 7,500 | 5 minutes | 625
Totals | 106,049 | 227,786 |  | 144,071

Abstract: The Migratory Bird Treaty Act (16 U.S.C. 703-711) and the Fish and Wildlife Act of 1956 (16 U.S.C. 742d) designate the Department of the Interior as the key agency responsible for (1) the wise management of migratory bird populations frequenting the United States, and (2) setting hunting regulations that allow appropriate harvests that are within the guidelines that will allow for those populations' well-being. These responsibilities dictate that we gather accurate data on various characteristics of migratory bird harvest. Based on information from harvest surveys, we can adjust hunting regulations as needed to optimize harvests at levels that provide a maximum of hunting recreation while keeping populations at desired levels.

Under the Migratory Bird Harvest Program, State licensing authorities collect the name and address information needed to provide a sample frame of all licensed migratory bird hunters. Since Federal regulations require that the States collect this information, we are including the associated burden in our approval request to OMB.

The Migratory Bird Hunter Survey is based on the Migratory Bird Harvest Information Program, under which each State annually provides a list of all migratory bird hunters in the State. We randomly select migratory bird hunters; send them either a waterfowl questionnaire, a dove and band-tailed pigeon questionnaire, a woodcock questionnaire, or a snipe, rail, gallinule and coot questionnaire; and ask them to report their harvest of those species. The resulting estimates of harvest per hunter are combined with the complete list of migratory bird hunters to provide estimates of the total harvest of those species.

The Parts Collection Survey estimates the species, sex, and age composition of the harvest, and the geographic and temporal distribution of the harvest. Randomly selected successful hunters who responded to the Migratory Bird Hunter Survey the previous year are asked to complete and return a postcard if they are willing to participate in the Parts Collection Survey. We provide postage-paid envelopes to respondents before the hunting season and ask them to send in a wing or the tail feathers from each duck, goose, or coot they harvest, or a wing from each woodcock, band-tailed pigeon, snipe, rail, or gallinule they harvest. We use the wings and tail feathers to identify the species, sex, and age of the harvested sample. We also ask respondents to report on the envelope the date and location of harvest for each bird. We combine the results of this survey with the harvest estimates obtained from the Migratory Bird Hunter Survey to provide species-specific national harvest estimates.

The combined results of these surveys enable us to evaluate the effects of season length, season dates, and bag limits on the harvest of each species, and thus help us determine appropriate hunting regulations.

The Sandhill Crane Harvest Survey is an annual questionnaire survey of people who obtained a sandhill crane hunting permit. At the end of the hunting season, we randomly select a sample of permit holders and ask them to report the date, location, and number of birds harvested for each of their sandhill crane hunts. Their responses provide estimates of the temporal and geographic distribution of the harvest as well as the average harvest per hunter, which, combined with the total number of permits issued, enables us to estimate the total harvest of sandhill cranes. Based on information from this survey, we adjust hunting regulations as needed to optimize harvest at levels that provide a maximum of hunting recreation while keeping the population at the desired level.

We are also seeking approval to add a mourning dove wing collection to the Parts Collection Survey on an experimental basis. We will use the wings to identify the age of each sample, thereby providing estimates of annual mourning dove productivity at the management unit level. Those estimates of annual productivity are needed to improve the mourning dove population models that we have developed for each management unit. We will compare the results and costs of our experimental mail survey with results and costs of mourning dove wing collection methods that are currently employed by some, but not all, States that have dove hunting seasons. If mourning dove productivity estimates are similar for the two methods, we would propose to adopt the more cost-effective method on a national scale.

Comments: On March 16, 2007, we published in the Federal Register (72 FR 12628) a notice of our intent to request that OMB renew approval for this information collection. In that notice, we solicited comments for 60 days, ending on May 16, 2007. We received one comment. The commenter did not address the information collection requirements, but did protest the entire migratory bird hunting regulations process, surveys and monitoring programs, and the killing of all migratory birds. Our long-term objectives continue to include providing opportunities to harvest portions of certain migratory game bird populations and limit harvest to levels compatible with each population's ability to maintain healthy, viable numbers. Our harvest surveys are an integral part of our monitoring programs, which provide the information that we need to ensure harvest levels are commensurate with current status of migratory game bird populations and long-term population goals.

We again invite comments concerning this information collection on:

(1) whether or not the collection of information is necessary, including whether or not the information will have practical utility;

(2) the accuracy of our estimate of the burden for this collection of information;

(3) ways to enhance the quality, utility, and clarity of the information to be collected; and

(4) ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: November 14, 2007
Hope Grey,
Information Collection Clearance Officer, Fish and Wildlife Service.

FR Doc. E7-23197 Filed 11-29-07;8:45am

BILLING CODE 4310-55-S